DEPARTMENT OF THE INTERIOR

Bureau of Land Management

[WO-310-1310-PB-24-1A]

OMB Approval Number 1004-0-162; Information Collection Submitted to the Office of Management and Budget Under the Paperwork Reduction Act

The Bureau of Land Management (BLM) has submitted a request to the Office of Management and Budget (OMB) under the provisions of the Paperwork Reduction Act (44 U.S.C. 3501 et seq.) to extend a currently approved collection of information listed below. On May 14, 2002, the BLM published a notice in the Federal Register (67 FR 34467) requesting comments. The comment period ended July 15, 2002. BLM received no comments. You may obtain copies of the collection of information and related forms and explanatory material by contacting the BLM Information Collection Clearance Office at the telephone number listed below.

The OMB must respond to this request within 60 days but may respond after 30 days. For maximum consideration, your comments and suggestions on the requirement should be made within 30 days directly to the Office of Management and Budget, Interior Department Desk Officer (1004-0162), Office of Information and Regulatory Affairs, Washington, DC 20503. Please provide a copy of your comments to the Bureau Information Collection Clearance Officer (WO-630), Bureau of Land Management, Eastern States Office, 7450 Boston Blvd, Springfield, Virginia 22153.

Nature of Comments: We specifically request your comments on the following:

1. Whether the collection of information is necessary for the proper functioning of the BLM, including whether the information will have practically utility;

2. The accuracy of BLM's estimate of the burden of collecting the information, including the validity of the methodology and assumptions we use;

3. Ways to enhance the quality, utility, and clarity of the information collected; and

4. Ways to minimize the information collection burden on those who are to respond, including the use of appropriate automated electronic, mechanical, or other forms of information technology.

Title: Oil and Gas Geophysical Exploration Operations (43 CFR 3150).

OMB Approval Number: 1004-0162.

Abstract: Respondents supply information that we use to determine procedures for conducting oil and gas geophysical exploration operations on public lands. The information supplied allow the Bureau of Land Management and the Forest Service to determine that geophysical exploration operation activities are conducted in a manner consistent with the regulations, local use plans, and environmental assessments in compliance with the provisions of the National Environmental Policy Act of 1969, as amended.

Form Numbers: BLM 3150-4/FS 2800-16; BLM 3150-5/FS 2800-16a; certain nonform information (Alaska only).

Frequency: On occasion.

Description of Respondents: Oil and gas exploration and drilling companies.

Estimated Completion Time: BLM 3150-4/FS 2800-16, 1 hour; BLM 3150-5/FS 2800-16a, 20 minutes; and certain nonform information (Alaska only), 1 hour.

Annual Repsonses: 1,253.

Application Fee Per Response; $25 filing/renewal fee (only if off lease in Alaska).

Annual Burden Hours: 836.

Bureau Clearance Officer: Michael H. Schwartz (202) 452-5033.

Dated: October 30, 2002.
Michael H. Schwartz,
Bureau of Land Management, Information Collection Clearance Officer.

[FR Doc. 02-28046 Filed 11-4-02; 8:45 am]

BILLING CODE 4310-84-M